DEPARTMENT OF AGRICULTURE

Animal and Plant Health Inspection Service

[Docket No. 05-026-1]

Public Meeting; Veterinary Biologics

AGENCY: Animal and Plant Health Inspection Service, USDA.

ACTION: Notice of public meeting.

SUMMARY: We are holding a public meeting to solicit comments on the development of a national strategy concerning the use of vaccines in State/Federal/industry programs for the control of brucellosis, pseudorabies, and other program diseases.

DATES: The public meeting will be held on Friday, June 10, 2005, from 8 a.m. to 3 p.m.

ADDRESSES: The public meeting will be held at the Four Points by Sheraton Des Moines Airport, 1810 Army Post Road, Des Moines, IA.

FOR FURTHER INFORMATION CONTACT: Ms. Gera Ashton, Center for Veterinary Biologics, VS, APHIS, 1800 Dayton Road, Ames, IA 50010; phone (515) 663-7838, fax (515) 232-7120, or e-mail gera.a.ashton@aphis.usda.gov.

SUPPLEMENTARY INFORMATION: The Animal and Plant Health Inspection Service (APHIS) and its State and industry partners are approaching their goal of eradicating brucellosis and pseudorabies from the national herd in the United States. As that goal becomes nearer, it is necessary to discuss issues such as the need for continued production of vaccine after eradication has been declared, changes in the availability of diagnostic reagents and test kits, and possible changes to the biosecurity level assigned to the causative agents for both diseases.

In October 2002, at a forum hosted by APHIS in St Louis, MO, representatives of State and Federal government, academia, veterinary biologics industry, producer groups, and animal disease researchers compiled a list of issues that they believed should be considered when developing regulations or policies concerning the use of vaccines beyond the end of eradication programs for diseases such as brucellosis and pseudorabies. It was suggested that APHIS seek additional input from State animal health officials, producer groups, and other interested persons prior to deciding the final policy. The report of the October 2002 meeting is available on the Internet at http://www.aphis.usda.gov/vs/cvb/newlypublishedinfo.htm.

We are holding this meeting to solicit additional input on the continued use of and need for vaccines and diagnostic reagents at the end of eradication for these and other program diseases.

This meeting is scheduled for Friday, June 10, 2005. The public meeting will begin at 8 a.m. and is scheduled to end at 3 p.m. but may end earlier if all persons wishing to speak have been heard. Those wishing to speak at the meeting must register in advance on or before June 1, 2005. To register to speak, please e-mail Ms. Gera Ashton at gera.a.ashton@aphis.usda.gov. Please provide the subject of your remarks and the approximate length of time that will be necessary. Depending on the number of speakers, limits may be imposed on the length of each presentation. Speakers may register on the day of the meeting between 7:30 and 8 a.m. The time allotted to each speaker will depend on the number of pre-registered speakers. If time permits, persons attending the meeting who have not registered to speak will be given an opportunity to make remarks after the registered speakers have concluded their comments. The meeting will be recorded, and information about obtaining a transcript will be provided at the meeting.

If you require special accommodations, such as a sign language interpreter, please contact the person listed under FOR FURTHER INFORMATION CONTACT.

Done in Washington, DC, this 21st day of April 2005.
Elizabeth E. Gaston,
Acting Administrator, Animal and Plant Health Inspection Service.

[FR Doc. E5-1982 Filed 4-26-05; 8:45 am]

BILLING CODE 3410-34-P